DEPARTMENT OF THE INTERIOR

Bureau of Reclamation

City of Albuquerque Drinking Water Project, New Mexico

AGENCY: Bureau of Reclamation, Interior.

ACTION: Notice of Availability for the Final Environmental Impact Statement for the City of Albuquerque Drinking Water Project.

INT-FES 04-10

SUMMARY: Pursuant to the National Environmental Policy Act (NEPA) of 1969 (as amended), the Bureau of Reclamation (Reclamation), as lead federal agency, and the City of Albuquerque (City), as joint lead agency, have prepared a final environmental impact statement (FEIS) for the City of Albuquerque Drinking Water Project. The project is the main component of the Albuquerque Water Resources Management Strategy, adopted by the City Council, which aims to efficiently use existing water resources and develop a safe and sustainable water supply for City residents to the year 2060. The proposed alternatives provide a means of action through which the City would fully consumptively use the City's San Juan-Chama Project water to provide a sustainable water supply.

ADDRESSES: Copies of the FEIS are available from Marsha Carra, Bureau of Reclamation, Albuquerque Area Office, 555 Broadway, NE., Suite 100, Albuquerque, New Mexico 87102; telephone (505) 462-3602; facsimile (505) 462-3797; e-mail: mcarra@uc.usbr.gov. The FEIS is also available on Reclamation's Web site at http://www.usbr.gov/uc/albuq/library/eis/adwp/adwp.html.

Copies of the document are also available for public review and inspection at the following locations:

City of Albuquerque Water Resources Office, Public Works Department, Water Resources Department, One Civic Plaza, 5th Floor, Albuquerque, New Mexico

Bureau of Reclamation, Upper Colorado Regional Office, 125 South State Street, Room 6107, Salt Lake City, Utah 84138-1147;

Bureau of Reclamation, Albuquerque Area Office, 555 Broadway, NE., Suite 100, Albuquerque, New Mexico 87102;

Energy, Minerals and Natural Resources Department, Attention: Joanna Prukop, Wendell Chino Building, P.O. Box 6429, Santa Fe, New Mexico 87505; and

Environment Department, Attention: Ron Curry, Harold Runnels Building, P.O. Box 26110, Santa Fe, New Mexico 87502.

Libraries

Albuquerque Public Library, Reference Desk, Main Library, 501 Copper, NW., Albuquerque, New Mexico 87102;

North Valley Public Library, Reference Desk, 7704 2nd Street, NW., Albuquerque, New Mexico 87107;

South Broadway Public Library, Reference Library, 1025 Broadway, SE., Albuquerque, New Mexico 87108;

Cherry Hills Public Library, Reference Library, 6901 Barstow, NE., Albuquerque, New Mexico 87111;

Socorro Public Library, 401 Park Street, Socorro, New Mexico;

Española Public Library, 921 Paseo del Norte, Española, New Mexico; and

Santa Fe Public Library, 145 Washington Avenue, Santa Fe, New Mexico.

FOR FURTHER INFORMATION CONTACT: Marsha Carra, Bureau of Reclamation, Albuquerque Area Office, 555 Broadway, NE., Suite 100, Albuquerque, New Mexico 87102; telephone (505) 462-3602; facsimile (505) 462-3797; e-mail: mcarra@uc.usbr.gov.

SUPPLEMENTARY INFORMATION: The FEIS considers the effects of the City of Albuquerque using San Juan-Chama Project water to provide a sustainable drinking water supply for its citizens. The four primary project elements are (1) Diverting San Juan-Chama Project water after it is released to the Rio Grande, (2) transporting the raw water to a water treatment plant, (3) treating the raw water to drinking water standards, and (4) distributing the treated, potable water to customers in the City's water service area. At present, the City water is supplied by aquifer pumping. Continued reliance on this source is unsustainable and could have other serious environmental consequences for the City and its water customers. The San Juan-Chama Project water has been contracted for a number of years and will allow the City to fully develop its water resources.

The FEIS evaluates several alternatives, including the no action alternative, and describes the existing environmental consequences of using the San Juan-Chama water source. The FEIS considers the following issues: aesthetics and visual resources, air quality, aquatic life, biodiversity, cultural resources, energy, environmental justice, floodplains, geology, hazardous materials, human health and safety, hydrology (surface and groundwater), Indian trust assets and other tribal resources, land use, noise and vibration, recreation, riparian areas, socioeconomic conditions, soils, threatened and endangered species, traffic and circulation, upland vegetation, water quality, wetlands/non-wetland waters, wildlife, and cumulative effects.

The construction and operation of a low-head diversion dam is the preferred alternative. It permits the greatest flexibility for diverting the San Juan-Chama water from the Rio Grande, meets the project purpose and need, and avoids major impacts to environmental resources. With mitigation measures incorporated, there are no significant environmental or socioeconomic impacts under the preferred alternative.

Reclamation requested government-to-government consultation with 27 federally recognized Pueblos and Tribes and contacted the Bureau of Indian Affairs to help identify and determine any effects to Indian trust assets. Implementation of the preferred alternative will not cause adverse effects to Indian trust assets.

The draft environmental impact statement (DEIS) was issued in June 2002. Responses to comments received from organizations and individuals on the DEIS have been addressed in the FEIS. No decision will be made on the proposed federal action until 30 days after release of the FEIS. After the 30-day waiting period, Reclamation will complete a Record of Decision. The Record of Decision will state the action that will be implemented and discuss all factors leading to that decision.

Dated: March 30, 2004.
Connie L. Rupp,
Assistant Regional Director, Bureau of Reclamation.

[FR Doc. 04-7981 Filed 4-7-04; 8:45 am]

BILLING CODE 4310-MN-P